DEPARTMENT OF HEALTH AND HUMAN SERVICES

Agency for Healthcare Research and Quality

AHRQ Quality Indicators Workgroup on Inpatient and Patient Safety Composite Measures

AGENCY: Agency for Healthcare Research and Quality (AHRQ), DHHS.

ACTION: Notice of request for nominations.

SUMMARY: The Agency for Healthcare Research and Quality (AHRQ) is seeking nominations for members of an AHRQ-convened Quality Indicators Workgroup on Composite Measures for the Inpatient Quality Indicators (IQIs) and the Patient Safety Indicators (PSIs) as part of a general workgroup on composite measures. The AHRQ QI Composite Measures General Workgroup and subsequent IQI and PSI sub-workgroups are being formed as part of a structured approach for developing composite measures from the IQI and PSI software tools for public reporting of quality of hospital care at the national and state level. The purpose of this project is to obtain input from interested organizations and individuals on the development of composite quality measures based on hospital discharge data, specifically using the IQI and PSI measures. The Workgroups will evaluate appropriate technical and methodological approaches currently available and will discuss and suggest strategies as to what composite measure methodology would best fit QI user needs. As part of this effort and using the AHRQ PSIs and IQIs, the Workgroup members will be addressing several key issues for the development of composite measures, including but not limited to:

• Identifying and defining the quality concept that each composite is intended to measure;

• Suggesting and considering the individual quality indicators that should be included in the composite;

• The manner of weighting with which individual quality indicators could or should be combined;

• Evaluation of using condition-specific quality of care composites (e.g., for cardiovascular disease, or diabetes) or population-specific composites (e.g., pediatrics, women, or geriatrics) or domain specific composites (e.g., surgical, or infections); and

• Discussion of the methodological considerations which are appropriate or important when combining quality indicators and the considerations when composites are used for publicly reporting data.

For additional information about the AHRQ Quality Indicators, please visit the AHRQ Quality Indicators Web site at http://www.qualityindicators.ahrq.gov.

Specifically, the AHRQ QI Composite Measures General Workgroup will consist of up to 15 individuals who have expertise in one or more of the following areas: Statistical methods, hospital quality improvement and patient safety, health services research, and administrative data. To the extent possible, this Workgroup will represent a variety of stakeholder perspectives, specifically including—(1) Consumers, (2) healthcare purchasers, (3) quality improvement organizations, (4) researchers, (5) healthcare professionals, (6) state-based organizations, and (7) Federal health care provider organizations. The Workgroup will be further divided into two sub-workgroups to focus on the IQIs and the PSIs separately. Each sub-workgroup will have a series of conference calls to share perspectives, discuss the technical and policy issues surrounding composite measures for each module and will then summarize their discussions for presentation to the AHRQ QI Composite Measures General Workgroup. The AHRQ QI Composite Measures General Workgroup will provide responses to the sub-workgroups' findings. AHRQ will then develop a summary of the discussion in a technical report. This report will be made available for public comment.

DATES: Please submit nominations on or before May 4, 2006. Self-nominations are welcome. Third-party nominations must indicate that the individual has been contacted and is willing to serve on one of the workgroups. Notification of selected candidates will be contacted by AHRQ no later than May 15, 2006.

ADDRESSES: Nominations can be sent in the form of a letter or e-mail, preferably as an electronic file with an e-mail attachment and should specifically address the submission criteria as noted below. Electronic submissions are strongly encouraged. Responses should be submitted to: AHRQ Quality Indicators Initiative, Agency for Healthcare Research and Quality, Center for Delivery, Organization and Markets, 540 Gaither Road, Room 5121, Rockville, MD 20850. E-mail: projectofficer@qualityindicators.ahrq.gov.

Submission Criteria

To be considered for membership on the AHRQ QI Workgroups, please send the following information for each nominee:

1. A brief nomination letter highlighting experience/knowledge relevant in the development and use of composite performance measures and familiarity with the AHRQ QIs and health care administrative data. (See selection criteria below.) Please include full contact information of nominee: Name, title, organization, mailing address, telephone and fax numbers, and e-mail address).

2. Curriculum vita (with citations to any pertinent publications).

Nominee Selection Criteria

Nominees should have technical expertise in health care quality measurement development, and a familiarity with statistical methods and risk adjustment strategies in the area of composite measure development.

More specifically, each candidate will be evaluated using the following criteria:

• Peer-reviewed publications relevant to the development of composite measures; performance measures and reporting;

• Expertise in statistical methods relevant to the development of composite measures;

• Knowledge of recent composite methodologies published in the literature;

• Experience with development of measures based on administrative data and its uses;

• Expertise in hospital quality improvement and patient safety;

• Familiarity with the AHRQ Quality Indicators and their application;

• Experience with application of performance measures for public reporting; and,

• Availability to provide written comments and conference calls between late April and early August.

Time Commitment

In an effort to provide for expert input and for recommendations to develop a composite measure methodology, we are initiating a review process that will require participation in approximately four to five conference calls with some pre- and post-evaluation time (approximately 10 hours). Results from this process will influence the development of composite measures for the AHRQ Quality indicators. Beginning in late April/early May through early August, selected nominees will be asked to participate in the following activities:

IQI/PSI Sub-Workgroup Activities

1. Provide evaluative comments on current methodology for composite indicators (2.0 hours) and participate in subsequent General Workgroup call (1.0 hour);

2. Participate in one Sub-Workgroup conference call to discuss suggested changes to the current composite indicator methodology (1.5 hours);

3. Provide evaluative comments on AHRQ's new draft or revised methodology (1.5 hour);

4. Participate in second Subgroup call to respond to each others' comments and questions or provide additional clarifications regarding draft methodology (1.5 hours); and

5. Participate in second General workgroup call. Provide suggestions for summary document for public comment (2.0 hours).

The Workgroup will conduct business by telephone, e-mail, or other electronic means as needed.

FOR FURTHER INFORMATION CONTACT: Mamatha Pancholi, Center for Delivery, Organization, and Markets, Agency for Healthcare Research and Quality, 540 Gaither Road, Rockville, MD 20850; Phone: (301) 427-1470; Fax: (301) 427-1430; E-mail: mamatha.pancholi@ahrq.hhs.gov; or

Marybeth Farquhar, Center for Delivery, Organization, and Markets, Agency for Healthcare Research and Quality, 540 Gaither Road, Rockville, MD 20850; Phone: (301) 427-1317; Fax: (301) 427-1430; E-mail: marybeth.farquhar@ahrq.hhs.gov.

SUPPLEMENTARY INFORMATION:

Background

The AHRQ Quality Indicators (AHRQ QIs) are a unique set of measures of health care quality that make use of readily available hospital inpatient administrative data. The QIs have been used for various purposes. Some of these include tracking, hospital self-assessment, reporting of hospital-specific quality or pay for performance. The AHRQ QIs are provider- and area-level quality indicators and currently consist of four modules: The Prevention Quality Indicators (PQI), the Inpatient Quality Indicators, the Patient Safety Indicators (PSI) and the Pediatric Quality Indicators (PedsQIs). In response to feedback from the AHRQ QI user community, AHRQ is committed to developing composite measures in an effort to provide an overall view of quality that is complete, useful and easily understandable to consumers and others within the health care field.

Dated: March 29, 2006.
Carolyn M. Clancy,
Director.

[FR Doc. 06-3207 Filed 4-3-06; 8:45 am]

BILLING CODE 4160-90-M